DEPARTMENT OF LABOR

Employment and Training Administration

[TA-W-50,245]

Wolverne Worldwide, Inc., Kirksville, MO; Notice of Termination of Investigation

Pursuant to section 221 of the Trade Act of 1974, an investigation was initiated on December 4, 2002 in response to a worker petition which was filed on behalf of workers at Wolverine Worldwide, Inc., Kirksville, Missouri.

An active certification covering the petitioning group of workers is already in effect (TA-W-37,937, as amended). Consequently, further investigation in this case would serve no purpose, and the investigation has been terminated.

Signed in Washington, DC, this 31st day of January 2003.
Linda G. Poole,
Certifying Officer, Division of Trade Adjustment Assistance.

[FR Doc. 03-5542 Filed 3-7-03; 8:45 am]

BILLING CODE 4510-30-P